DEPARTMENT OF HEALTH AND HUMAN SERVICES

National Institutes of Health

Center for Scientific Review Amended; Notice of Meeting

Notice is hereby given of a change in the meeting of the Risk, Prevention and Intervention for Addictions Study Section, October 09, 2014, 08:00 a.m. to October 10, 2014, 05:00 p.m., Sir Francis Drake Hotel, 450 Powell Street at Sutter, San Francisco, CA, 94102 which was published in the Federal Register on September 12, 2014, 79 FR 54734.

The meeting will be held at the Pier 2620 Hotel, 2620 Jones Street, San Francisco, CA 94133.

The meeting date and time remain the same. The meeting is closed to the public.

Dated: September 12, 2014.
Anna Snouffer,
Deputy Director, Office of Federal Advisory Committee Policy.

[FR Doc. 2014-22296 Filed 9-18-14; 8:45 am]

BILLING CODE 4140-01-P